DEPARTMENT OF COMMERCE

National Oceanic and Atmospheric Administration

[Docket No. 991027290-1295-02]

RIN 0648-ZA74

Sea Grant National Strategic Investments in Technology, Marine Environmental Biotechnology, and Fisheries Habitat: Request for Proposals for FY 2002

AGENCY: National Sea Grant College Program, National Oceanic and Atmospheric Administration, Department of Commerce.

ACTION: Notice of request for proposals.

SUMMARY: The purpose of this notice is to advise the public that the National Sea Grant College Program (Sea Grant) is entertaining preliminary proposals and subsequently full proposals for National Strategic Investments in the following three programs:

(1) The Technology Program, which involves the development and transfer of technologies pertaining to engineering and the physical sciences; this program is intended to fulfill Sea Grant's broad responsibilities in fostering economic competitiveness through the transfer of technology pertaining to the development and utilization of ocean, coastal, and Great Lakes resources. The maximum Federal award for each project will be $150,000 per year for up to two years.

(2) The Marine Environmental Biotechnology Program, which seeks to fund innovative research, education, and outreach projects to (i) develop and utilize molecular and cellular biology for assessing the effects of contaminants and pathogens on the health of the coastal ecosystem; and (ii) educate and inform the public about marine biotechnology. The maximum Federal award for each project will be $150,000 per year for up to two years.

(3) The Fisheries Habitat Program, which deals with innovative research, education, and outreach projects that address critical and high priority problems related to fisheries habitat in U.S. coastal and Great Lakes waters. The maximum Federal award for each project will be $300,000 per year for up to two years.

To support projects in the above three programs, Sea Grant expects to provide a total of about $1,750,000, $2,750,000, and $2,000,000, respectively, over a two-year period (FY2002 and FY2003). Matching funds equal to a minimum of 50% of the Federal request must be provided. Successful projects, which will have a maximum duration of two years, will be selected through national competitions.

DATES: Preliminary proposals must be received by 5 pm (local time) on February 15, 2002 by a state Sea Grant College Program. Preliminary proposals from non-Sea Grant states, if submitted directly to the National Sea Grant Office (NSGO), must be received by 5 pm EST on February 15, 2002. After evaluation at the NSGO, some proposers will be encouraged to prepare full proposals, which must be received by 5 pm (local time) on April 18, 2002 by a state Sea Grant College Program or the NSGO. (See ADDRESSES for where to submit preliminary and full proposals.) Note that applications arriving after these deadlines will be accepted for review only if the applicant can document that the application was provided to a delivery service that guaranteed delivery to the address listed below (see ADDRESSES) prior to the specified closing date and time; in any event, applications received by the NSGO or the state Sea Grant programs later than two business days following the closing date will not be accepted. Facsimile transmissions and electronic mail submission of proposals will not be accepted. It is anticipated that funding decisions will be made by June 20, 2002, and that successful applicants will be able to initiate projects approximately December 1, 2002.

ADDRESSES: Preliminary proposals and full proposals originating in Sea Grant states must be submitted to the state Sea Grant Program. Preliminary proposals and full proposals originating elsewhere may be submitted either to the nearest Sea Grant Program or directly to the NSGO. The addresses of the Sea Grant College Program directors may be found on Sea Grant's home page (http://www.nsgo.seagrant.org/SGDirectors.html) or may also be obtained by contacting the NSGO. Preproposals and proposals submitted to the NSGO should be addressed to: National Sea Grant Office, R/SG, Attn: Mrs. Geraldine Taylor, Proposal Processing, Room 11732, NOAA, 1315 East-West Highway, Silver Spring, MD 20910 (telephone number for express mail applications is 301-713-2445).

FOR FURTHER INFORMATION CONTACT: Dr. Vijay G. Panchang (Program Director for Technology Transfer), Dr. Linda Kupfer (Program Director for Biotechnology), or Dr. Emory Anderson (Program Director for Fisheries) at the National Sea Grant Office, R/SG, NOAA, 1315 East-West Highway, Silver Spring, MD 20910. Tel. (301) 713-2435, e-mail: Vijay.Panchang@noaa.gov; Linda.Kupfer@noaa.gov; Emory.Anderson@noaa.gov.

SUPPLEMENTARY INFORMATION:

I. Program Authority

Authority: 33 U.S.C. 1121-1131.

Catalog of Federal Domestic Assistance Number: 11.417, Sea Grant Support.

II. Description of Programs

A. Technology Program

Background

The ocean environment has traditionally provided an abundance of economic opportunities over a wide spectrum of activities. As a result of growing population pressures, the demands to maintain a sustainable and healthy environment, and ongoing scientific advancements, the economic potential afforded by the marine environment may be expected to increase. On the other hand, globalization has put unprecedented demands on U.S. industry for innovation and the development of new technologies. Economic competitiveness can be fostered by creating opportunities for collaboration between industrial and academic scientists and engineers, as well as by supporting post-fundamental work to accelerate the conversion of academic research into products with commercial value.

The “National Sea Grant College Program Reauthorization Act of 1997” (33 U.S.C. 1121-1131) calls upon the National Sea Grant College Program (Sea Grant) to foster economic competitiveness, invest in technology transfer, and create partnerships between the Federal Government and universities, private industry, and other agencies in the development and utilization of marine resources. To meet these objectives, Sea Grant's Technology program is meant to serve as a catalyst for scientific entrepreneurship and technology transfer and thereby enhance commerce. In particular, the goals are: To conduct focused projects that can lead to the development of marine and Great Lakes related technological innovations and their acceptance in the marketplace (both in the U.S. and abroad); to increase interactions between the nation's academic scientists and engineers and their industrial counterparts; to stimulate Sea Grant's research and development activities in the physical sciences and engineering; to accelerate the transfer of research-based marine science from universities to new technologies in industry; to provide a mechanism for industry to influence Sea Grant research priorities and solve problems of importance to industry; and to forge long-term relationships between Sea Grant colleges and industrial firms.

Funding Priorities and Availability

The Sea Grant Technology program provides support for applied research and development projects that ultimately facilitate the transfer of new products and processes that pertain to the development of marine technologies, including cost reductions for processes and product safety. In a true partnership that benefits national or regional economies, industrial cooperation in academic research and development efforts could be expected and such cooperation should be sought. University faculty are the major source for identifying potential industrial collaborators and suitable research topics. However, other sources can be used to identify potential industrial partners or user groups, such as the Sea Grant Marine Extension Program, university industrial relations offices, and the Sea Grant Review Panel. Sea Grant directors are encouraged to use a variety of sources in building successful partnerships with industry or other user groups.

Several types of projects will be considered under this announcement. These include, for example, the following:

1. Additional developmental work that can accelerate the transition of academic research to marketplace acceptance or practice. For example, pilot-scale testing of technologies developed in academia may be necessary to establish economic feasibility. A private sector partner may or may not be identified. (If the work has imminent commercial implications and an industrial partner is involved, the partner is encouraged to provide matching funds.)

2. A project which does not lead to a commercializable product per se, but is of mutual benefit to industry and academia. For example, if an industry sector anticipates future trends either due to market forces or government regulations, it may wish to prepare for them by developing technologies with help from academia. If there is actual transfer of technologies to industry, then participation by an industrial partner may be appropriate.

3. Technology transfer or demonstration projects and workshops/forums given by academic researchers and mainly targeted to industry, involving registration or other fees paid by industry which can constitute industrial match.

4. Technology transfer to user groups in government or other agencies that enhances cost-effectiveness of operations.

Proposals that will be considered under this announcement are not limited to the above types of projects, which are given by way of example only.

This announcement is intended to stimulate Sea Grant developments in the physical sciences and engineering. (See the Long Range Plan on Sea Grant's home page or that of the nearest Sea Grant College Program). Examples of possible project areas include:

1. Improved ocean observation technology and data management systems pertaining to a “digital ocean”, including predictive models of coastal/shoreline/basin ocean/lake circulation and sensors for currents/tides, marine contamination and water quality, storms/winds/waves, and other natural chemical/physical properties.

2. Marine weather prediction techniques for users in coastal regions.

3. Determining the extent and implications of shoreline erosion and developing new solutions (including social science approaches).

4. Sea level issues such as rise/fall, hazard analysis, etc.

5. Harbor/channel problems such as management for commercial, public, and private/recreational uses as well as engineering design and operations (e.g. improved techniques for dredging and spoil analysis/distribution, “intelligent” waterways and enhanced navigability, etc).

6. Improved wastewater treatment technologies to reduce coastal contamination.

7. Vessel design.

8. Life raft/lifesaving/rescue communications devices.

9. Material science in relation to the marine environment for structures, vessels, antifouling products, etc.

10. Programmable online robotic submersibles for marine observations.

11. Improvements in land use practice, watershed management, smart growth, risk analysis, etc.

The above list is not intended to be restrictive and projects covering other topics in the physical sciences and engineering are welcome.

To support projects in the Technology program, Sea Grant expects to provide a total of about $1,750,000 over a two-year period (FY2002 and FY2003). The maximum Federal award for each project will be $150,000 per year. Matching funds equal to a minimum of 50% of the Federal request must be provided. Successful projects will have maximum duration of two years; however, the second year of funding is contingent upon availability of funds and submission of an annual report showing satisfactory progress.

B. Marine Environmental Biotechnology Program

Background

Preservation of coastal ecosystems is critically important to the American public. There are growing concerns with the status and health of vital marine resources. Increasing development of coastal areas and pollution from variety of sources now exert relentless pressure upon these environments. Recognition that widespread threats to coastal ecosystems impact human health as well as traditional and emerging economic interests resonates throughout the scientific and management communities. The National Research Council's Ocean Studies Board reported in “Challenges on the Horizon” that improving the health of the coastal oceans and sustaining ocean ecology in the fact of mounting anthropogenic impacts represent key challenges for ocean research. Realization of the close link between the oceans and human health has sparked interest and involvement from scientists, health care professionals and other stakeholders as cited in the Ocean Studies Board's report “From Monsoons to Microbes.”

There are numerous chemical and biological threats to the health of the marine environment, which can affect its potential to sustain essential biodiversiry, its ability to fuel valuable economic interests, and its effect on human health. These range from severe impacts of point-source contamination and diseases to far more subtle stress imposed by sublethal and non-point source contamination exposure over long time frames. Development of coastal areas and the associated changes in land use patterns apply additional impacts to the coastal ecosystem. The response of the biota to the cumulative stress is now evident in a variety of compelling ways.

While these problems have continued to mount, our understanding of the concurrent biological and ecological ramifications have not followed in step. Consequently, we are poorly equipped to evaluate these problems and to adequately suggest and implement remedies. Historically, a number of factors have prevented this. We are using for the most part the tools of early twentieth century biology when better ones are available. Techniques with sufficient resolution to discern the mechanisms underlying these problems have rarely been applied within the context of the health of the marine environment. In addition, owing to their highly interdisciplinary nature, some of these problems have been difficult to address through traditional funding paths. The early promise of molecular biology and genetics continues to be realized as evidenced by the publishing of the human genome in February of this year. New methodologies are being developed and applied to the field such as the microarray or “gene chip”. Yet, while many scientists utilize the tools of biotechnology to answer pertinent questions regarding human health, the state of the environment and food production and safety, the extension, education and communication of information about biotechnology has largely been neglected.

There is a significant lack of understanding in the public domain regarding biotechnology and its applications in the marine environment. An accelerated program of biotechnology education, communication and outreach is critical to public acceptance and trust in the use of marine biotechnology tools.

Overcoming these barriers is the present emphasis of this program, which is meant to support the application of innovative and state-of-the-art molecular and cellular biotechnology research designed specifically to address tractable problems pertaining to the health of the marine ecosystem as well as education and outreach projects designed to inform the public about marine biotechnology.

The same innovative technology that has yielded such profound changes in the way that biomedical research is conducted and has become commonplace in virtually all modern biology laboratories will be applied in the critical area of environmental research. Techniques utilized in a typical molecular and cellular biology laboratory can now be viewed as an accessible biological toolbox that enables researchers to answer insightful questions relating to stress detection and monitoring methodologies. Marine biotechnology has become a mature and powerful driving force that is poised to lead to new developments in our understanding of how marine organisms and the coastal ecosystems respond to pollution, disease and environmental stress.

This announcement builds upon the successes of previous marine biotechnology initiatives funded by Sea Grant. These initiatives were instrumental in focusing university molecular and cellular biology research on marine issues. The benefits of previously funded research in marine biotechnology include new natural products and pharmaceuticals, new tools for fisheries management as well as development of new research systems for fundamental research and new insights into ocean dynamics. With this request for proposals, Sea Grant will focus the considerable power of molecular and cellular biology on the aquatic ecosystem.

Funding Priorities and Availability

Sea Grant will fund a nationwide research, education, and outreach program that is designed to foster innovative approaches to the study of health of the marine environment. It is designed to encourage collaboration among academics and key resource decision makers to ensure that the research is pertinent to the end users and that the results are distributed in an appropriate fashion among a variety of key user groups ranging from the research and management communities to the general public.

1. The focus of the research conducted under this initiative addresses a topic of pressing national importance: To better understand the marine ecosystem and the impact of contaminants and pathogens on this system.

The overarching goal is to add new focus and direction to Sea Grant funded research and to enhance its impact through innovative research studies, interdisiplinary studies, educational programs and outreach efforts. Research proposals should focus on tractable problems and specific, identifiable outcomes which impact the problem. Project areas may include the application of cellular and molecular biological techniques for the detection and characterization of pollutants and disease on the coastal ecosytem, including (a) the development of novel biosensors (including in situ biosensors) for major groups of pollutants and contaminants (toxics; heavy metals such as cadmium, copper and mercury; organics such as PCBs, PAHs, and pesticides; and endocrine disrupters); (b) the detection and characterization of sublethal effects of pollutants, contaminants, and pathogens (excluding effects of harmful algal blooms) in ecologically and economically important stocks in the natural environment (excluding aquacultured animals); and (c) the identification and use of biomarkers for the purpose of health and environmental quality assessment.

2. Outreach projects conducted under this initiative will focus on the fact that while the science of biotechnology has literally sprinted forward, public understanding of this technology has merely limped along, creating an uninformed and at times bewildered public. This situation is addressed in a January 2000 report by the National Association of State Universities and Land-Grant Colleges entitled “Agricultural Biotechnology: Critical Issues and Recommended Responses from the Land-Grant Universities.” With this request for proposals, Sea Grant will begin the process of bringing the public up to speed on marine biotechnology, its promise as well as the issues surrounding its use. Proposals should address the communication, education, and extension of marine biotechnology to the public. Examples in the field of communication include the development of a Sea Grant marine biotechnology web site which is a one-stop shop, critical for users learning about the many facets of marine biotechnology and for tying together all the work in marine biotechnology currently going on in the Sea Grant network. In addition, synthesis documents describing the results of Sea Grant sponsored research in marine biotechnology to both the scientist and the layperson are essential to tell the story of Sea Grant successes in marine biotechnology. An integrated project in this area could also include fact sheets on a variety of areas applicable to marine biotechnology suitable for diverse audiences. Examples of extension would be symposia geared to educate laypersons, industry, government regulators and policy makers on marine biotechnology. Similarly, workshops designed to assemble researchers who have been funded by national strategic investments in marine biotechnology to present their results and discuss the state of the science are encouraged. Publication of workshop proceedings would document a body of work and suggest future investments, similar to the NRC publication “Opportunities for Environmental Applications of Marine Biotechnology” upon which this request for proposals is based. Other themes for workshops might include policy issues surrounding marine biotechnology such as Federal and state regulations, risk assessment issues, legal policies such as patents and licensing, and regional marine biotechnology issues. Examples of proposals in the area of education include those focused on teaching marine biotechnology to high school students and teachers of high school students, aquarium exhibits focused on teaching marine biotechnology, traveling exhibits and museum exhibits, a course or series of courses in marine biotechnology for extension agents, specialists, or specific user groups such as policy makers or management.

To support projects in the Marine Environmental Biotechnology program, Sea Grant expects to provide a total of about $2,750,000 over a two-year period (FY2002 and FY2003). The maximum Federal award for each project will be $150,000 per year. For the Marine Environmental Biotechnology Program, about one quarter of the available funds will be devoted to support outreach projects. Matching funds equal to a minimum of 50% of the Federal request must be provided. Successful projects will have a maximum duration of two years; however, the second year of funding is contingent upon availability of funds and submission of an annual report showing satisfactory progress.

C. Fisheries Habitat Program

Background

Human and non-anthropogenic activities threaten the environments of our marine and Great Lakes waters. Habitats important to stocks of finfish and shellfish species exist in riverine, estuarine, coastal, and offshore continental shelf waters within the U.S. Exclusive Economic Zone as well as in waters of the Great Lakes. A long-term threat to the viability of commercial and recreational fisheries is the continuing adverse impacts of various human activities and natural hazards on our marine and Great Lakes aquatic habitats.

The U.S. Congress, in re-authorizing the Magnuson-Stevens Fishery Conservation and Management Act through the Sustainable Fisheries Act (SFA) (16 U.S.C. 1801 et seq.) in October 1996, mandated the identification of habitats essential to Federally managed marine finfish and shellfish species and the identification of measures to conserve and enhance these habitats. The SFA defined essential fish habitat (EFH) as “those waters and substrate necessary to fish for spawning, breeding, feeding, or growth to maturity.” This has been further interpreted by NOAA to include aquatic areas and their associated physical, chemical, and biological properties needed to support sustainable fisheries and healthy ecosystems involving managed species.

Since Congressional intent in the SFA was to prevent further loss of marine, estuarine, and other aquatic habitats, the eight regional Fishery Management Councils (Councils) have had to amend their fishery management plans (FMPs) to describe and identify EFH for all life stages of managed species, provide information on fishing and non-fishing activities that may adversely impact EFH, recommend measures to conserve and enhance EFH, and minimize, to the extent practicable, adverse impacts on EFH caused by fishing activities. The SFA also requires consultations between the National Marine Fisheries Service (NMFS) and any Federal agency whose actions may adversely affect EFH.

Although the EFH mandate in the SFA was directed towards the conservation and management of habitat for Federally managed fisheries, it has served to heighten awareness and stimulate similar efforts by state resource agencies and interstate Marine Fisheries Commissions responsible for near-shore and estuarine waters and by state, Federal, and international bodies responsible for Great Lakes waters.

Huge gaps in knowledge exist regarding habitat preferences and requirements of the life stages of many finfish and shellfish species, the role played by various habitats in the fishery production process, and the impacts of various anthropogenic and natural activities on habitat structure and function. In order for Fishery Management Councils, NMFS, interstate Marine Fisheries Commissions, and other Federal and state regulatory bodies and agencies responsible for either marine or Great Lakes waters to adequately manage habitats, these gaps in knowledge must be filled through expanded research and extension efforts.

The importance of addressing the requirement for and present deficiency in knowledge regarding fisheries habitat, and the need to consider habitat to a greater extent in fisheries management, has recently received considerable national attention in scientific symposia and conferences and popular and peer-reviewed publications. This research initiative is helping to address that lack of knowledge.

Funding Priorities and Availability

The Sea Grant Fisheries Habitat Program encourages proposals that address the topical fisheries habitat issues listed below. Proposals that are particularly encouraged are those that: (1) Involve collaboration with multiple investigators and various Federal agencies (e.g., National Marine Fisheries Service, National Undersea Research Program, Environmental Research Laboratories, National Ocean Service, U.S. Geological Survey, Environmental Protection Agency) in which the cooperating agencies provide additional funding, personnel, specialized equipment, research vessel time, and the like; (2) address regional or national issues with broad application; (3) demonstrate local and regional resource manager and stakeholder involvement in the planning and development process; (4) provide results in digital, metadata, GIS-capable format; and (5) incorporate applied areas of education, outreach, socioeconomic, and management components and applications of direct benefit to stakeholders. Proposals with narrow focus from single investigators are not encouraged and will have a minimal likelihood of being funded.

Proposals are requested that address the following issues:

1. Documentation of the functional role of habitats for particular species and life stages.

a. Documentation of the associations between managed fish and shellfish species and their habitats and characterization of the ecological processes that control species distribution.

b. Identification of the specific types of habitat that contribute most to the growth, reproduction, and survival of managed fish and shellfish species.

c. Development of survey strategies for seabed mapping, combining large-scale mapping technology with finer-scale survey techniques such as underwater video and sediment sampling.

2. Determination of the short- and long-term (cumulative) effects of commercial and recreational fishing gear and activities on fish and shellfish habitats.

a. Documentation of the effects of fishing activities on the physical and chemical structure of habitats, community composition of associated species, and growth, reproduction, and survival of managed fish and shellfish species.

b. Evaluation of the recovery rates for benthic habitats and associated fish and shellfish species disturbed by fishing gear and activities with respect to the frequency and magnitude of disturbance.

To support projects in the Fisheries Habitat program, Sea Grant expects to provide a total of about $2,000,000 over a two-year period (FY2002 and FY2003). The maximum Federal award for each project will be $300,000 per year. Matching funds equal to a minimum of 50% of the Federal request must be provided. Successful projects will have a maximum duration of two years; however, the second year of funding is contingent upon availability of funds and submission of an annual report showing satisfactory progress.

III. Eligibility

Applications may be submitted by individuals, public or private corporations, partnerships, or other associations or entities (including institutions of higher education, institutes, or non-Federal laboratories), or any State, political subdivision of a State, or agency or officer thereof. Directors of the state Sea Grant Programs are not eligible to compete for funds under this announcement, although for administrative purposes, they will be considered to be the Principal Investigator for all awards made to their state programs.

IV. Evaluation Criteria

The evaluation criteria for proposals submitted for support under these three programs are:

A. Impact of Proposed Project (50%): Significance of the problem addressed; impacts/benefits expected to the nation as a consequence of the project; degree to which the activity will advance the state of the science or discipline; potential for technology transfer to user groups such as industry and/or for enhanced economic/scientific/educational/management value.

B. Project Design (50%): Appropriateness of methodologies to be used; advanced synthesis of existing information; use or extension of state-of-the-art methods; qualifications of the investigators (education, training, and/or experience and record of achievement with previous funding); the degree to which multiple investigators, other Federal agencies, and potential users of the results of the proposed activity have been involved in planning the activity and/or will be involved in the execution of the activity, as appropriate; proposed project schedule (timeline).

V. Selection Procedures

Preliminary proposals will be reviewed at the NSGO by panels composed of government, industry, and academic experts. The panels will be asked to assess each preliminary proposal according to the evaluation criteria. The panels will make individual recommendations to the NSGO regarding which preliminary proposals may be suitable for further consideration. On the basis of the panels' recommendations, the Director of the NSGO will advise proposers whether or not the submission of full proposals is encouraged. Invitation to submit a full proposal does not constitute an indication that the proposal will be funded. Interested parties who are not invited to submit full proposals will not be precluded from submitting full proposals if they have submitted a preliminary proposal in accordance with the described procedures.

Individual state Sea Grant Programs receiving full proposals will conduct the mail peer review of the proposed projects in accordance with the Evaluation Criteria listed above. Complete proposals (12 copies) and copies of the mail reviews will then be sent by the state Sea Grant programs to the National Sea Grant Office. The NSGO will conduct mail reviews for proposals submitted directly to it by applicants not in Sea Grant states.

The proposals will be ranked in accordance with the assigned weights of the above evaluation criteria by an independent peer review panel consisting of government, academic, and industry experts. These panel members will provide individual evaluations on each proposal; thus there will be no consensus advice. Their recommendations and evaluations will be considered by the NSGO in the final selection. Only those proposals awarded a score of 50% or greater by the panel will be eligible for funding. For those proposals, the NSGO will: (a) Ascertain which proposals best meet the program priorities (stated in Section II), and do not substantially duplicate other projects that are currently funded or are approved for funding by NOAA and other Federal agencies, hence, awards may not necessarily be made to the highest-scored proposals; (b) select the proposals to be funded; (c) determine which components of the selected projects will be funded; (d) determine the total duration of funding for each proposal; and (e) determine the amount of funds available for each proposal. Investigators may be asked to modify objectives, work plans, or budgets prior to final approval of the award. Subsequent grant administration procedures will be in accordance with current NOAA grants procedures. Note that only one award will normally be made for each project; if multiple institutions are involved, they should be handled through subcontracts. A summary statement of the scientific review by the peer panel will be provided to each applicant.

VI. Instructions for Application

A. General Requirements

The ideal project attacks a well-defined problem that will be or is a significant societal, research, or technology development and transfer issue. The organization or people whose task it will be to make related decisions or who will be able to make specific use of project results will have been identified and contacted by the Principal Investigator(s). The proposal demonstrates an understanding of what constitutes necessary and sufficient information for responsible decision-making or for applied use, and shows how that information will be provided by the proposed activity or in concert with other planned activities.

Proposals are expected to have: a rigorous, hypothesis-based scientific work plan, or a well-defined, logical approach to address an engineering problem or outreach opportunity; a strong rationale for the proposed work; and a clear relationship with the ultimate users of the information. Projects undertaken jointly with industry, business, multiple investigators, or other agencies with interest in the problem are encouraged. Their contribution to the project may be in the form of collaboration, in-kind services, or dollar support. Projects that are solely monitoring efforts are not appropriate for funding. Proposals that incorporate educational, outreach, socioeconomic, and management components and applications will be viewed favorably.

To prevent the expenditure of effort that may not be successful, proposers must first submit preliminary proposals; based on advice provided by the NSGO, proposers may subsequently submit full proposals. Full proposals submitted by applicants who do not first submit a preliminary proposal will be returned without review. Applications may be made for Federal funds to support up to two-thirds of the total budget. Allocation of matching funds, equal to at least one-third of the total budget (in other words, at least 50% of the Federal request), must be specified. No more than $150,000 (for the Technology and the Marine Environmental Biotechnology Programs) or $300,000 (for the Fisheries Habitat Program) of Federal funds per year will be awarded to a project. The maximum duration for funded projects will be two years. Awards may be made either as grants or, if there is substantial involvement by one or more Federal agencies, as cooperative agreements. Investigators are encouraged to review the budgeting and grant-making policies of their state's Sea Grant Program, if any, before finalizing their proposal submissions.

B. How To Submit

Interested parties must submit applications (preliminary and full proposals) as follows. Applications originating in one of the Sea Grant states must be submitted to the state's Sea Grant College Program, which will submit the final grant application to the NSGO. Applications originating in a state with no Sea Grant College Program may be submitted to the nearest state Sea Grant College Program which will then submit the final grant application to the NSGO, or the application may be submitted directly to the National Sea Grant Office. Twenty (20) copies of preliminary proposals and proposals must be submitted to the state Sea Grant Programs or to the NSGO according to the schedule outlined below (See “Timetable”). The addresses of the Sea Grant College Program directors may be found on Sea Grant's World Wide Web home page (http://www.nsgo.seagrant.org/SGDirectors.html) or may also be obtained by contacting Mr. Joseph Brown at the NSGO (phone: 301-713-2438 x135 or e-mail: joe.brown@noaa.gov). Preproposals and proposals sent to the NSGO should be addressed to: National Sea Grant Office, R/SG, Attn: Ms. Geri Taylor, Proposals Processing, NOAA, 1315 East-West Highway, Silver Spring, MD 20910 (phone 301-713-2435 for express mail applications). Facsimile transmissions and electronic mail submission of applications will not be accepted.

C. Timetable

February 15, 2002, 5 p.m. (local time)—Preliminary proposals (20 copies) due at state Sea Grant Program, or at NSGO if application is being submitted by an institution in a non-Sea Grant state.

February 20, 2002, 5 pm EST—Preliminary proposals received at state Sea Grant Programs due at NSGO (18 copies).

April 18, 2002, 5 pm (local time)—Full proposals (20 copies) due at state Sea Grant Program, or at NSGO if application is being submitted by an institution in a non-Sea Grant state.

April 24, 2002, 5 pm EST—Full proposals (12 copies) received at state Sea Grant Programs due at NSGO.

June 4, 2002, 5 pm EDT—Reviews received at state Sea Grant Programs due at NSGO.

December 1, 2002 (approximate)—Funds awarded to selected recipients; projects begin.

Note that applications arriving after the closing dates given above will be accepted for review only if the applicant can document that the application was provided to a delivery service that guaranteed delivery to the appropriate address (see ADDRESSES) prior to the specified closing date and time; in any event, applications received by the NSGO or the state Sea Grant programs later than two business days following the closing date will not be accepted.

D. What To Submit

Preliminary Proposal Requirements

Preliminary proposals must be printed on metric A4 (210 mm x 297 mm) or 8½″ x 11″ paper with at least a 10-point font. The following information should be included:

1. Signed Title Page: The title page must be signed by the Principal Investigator and should clearly identify the program to which the proposal is submitted by starting the project title with “Sea Grant Technology Program” or “Sea Grant Marine Environmental Biotechnology Program” or “Sea Grant Fisheries Habitat Program” (as appropriate). Principal Investigators and collaborators should be identified by affiliation and contact information. The total project costs (Federal funds being requested and matching funds) should be listed as well as the source of the matching funds. Preliminary proposals must include matching funds equivalent to at least 50% of the Federal funds requested.

2. A concise (2-page limit) description of the project, its experimental design, its expected output or products, the anticipated users of the products, and its anticipated impact. Proposers should consult the Evaluation Criteria for additional guidance in preparing the preliminary proposals.

3. Resumes (1-page limit) of the Principal Investigators.

4. Proposers are encouraged (but not required) to include a separate page suggesting reviewers that the proposers believe are especially well-qualified to review the proposal. Proposers may also designate persons they would prefer not review the proposal, indicating why. These suggestions will be considered during the review process.

No institutional signatures or Federal government forms are needed while submitting preliminary proposals.

Full Proposal Requirements

All pages must be printed on metric A4 (210 mm × 297 mm) or 8½″ x 11″ paper with at least a 10-point font. Each full proposal should include the items listed below. Brevity will assist reviewers and program staff in dealing effectively with proposals. Therefore, the Project Description may not exceed 15 pages. Tables and visual materials, including charts, graphs, maps, photographs and other pictorial presentations are included in the 15-page limitation; literature citations and letters of support are not included in the 15-page limitation. No appendices are permitted. Applicants may obtain all required application forms through the World Wide Web at http://www.nsgo.seagrant.org/research/index.html and http://www.ofa.noaa.gov/~grants/pdf/, from the state Sea Grant Programs, or from Mr. Joseph Brown at the National Sea Grant Office (phone: 301-713-2438 ×135 or e-mail: joe.brown@noaa.gov).

1. Signed Title Page: The title page must be signed by the Principal Investigator and the institutional representative and provide complete contact information. The program area being addressed should be clearly identified by starting the project title with “Sea Grant Technology Program” or “Sea Grant Marine Environmental Biotechnology Program” or “Sea Grant Essential Fisheries Habitat Program” (as appropriate). The total amount of Federal and matching funds being requested for each project year must be listed.

2. Project Summary: The project summary should concisely describe the activity being proposed and the impact that would result from its successful completion, in a form suitable for publication. Applicants are encouraged to use the Sea Grant Project Summary Form 90-2, but may use their own form as long as it provides the same information as the Sea Grant form. The project summary should include: A. Title: Use the exact title as it appears in the rest of the application. B. Investigators: List the names and affiliations of each investigator who will significantly contribute to the project, starting with the Principal Investigator. For graduate fellowships, the faculty advisor or the state Sea Grant Director may be used. C. Funding request for each year of the project, including matching funds if appropriate. D. Project Period: Start and completion dates. Proposals should request a start date of December 1, 2002. E. Project Abstract: This should include the rationale for the proposed activity, the scientific or technical objectives and/or hypotheses to be tested, and a brief summary of the work to be completed.

3. Project Description (15-page limit):

a. Introduction/Background/Justification: Subjects that the investigator(s) may wish to include in this section are: (i) Previous fundamental research, including relevant work funded by Sea Grant, and a description of what additional work is needed to enhance the value of that work; and (ii) impacts of the study to the particular discipline or subject area.

b. Research or Technical Plan: (i) Objectives to be achieved, hypotheses to be tested; (ii) Experimental design and statistical analysis to be used; (iii) Plan of work, detailed methodology, collaboration with industry or other user groups (if appropriate), and a timetable for project activities; and (iv) Role of project personnel.

c. Output/Anticipated Economic Benefits: These may be measured in many ways (for instance the benefits of using biotechnological tools as opposed to other methods, the value of better understanding and managing the ecosystem or fisheries habitats, etc). To the extent possible, proposers are urged to devise appropriate metrics to quantify the benefits. Examples of metrics may include patents or licenses; commercializable new products (e.g. products used in or obtained from marine engineering operations, computer models for simulation of marine processes, etc.); process improvements (e.g. harbor design or dredging procedures, biochemical engineering, etc.); corporate investments in academic research efforts; private sector job opportunities for students involved in the project; number of end users or persons affected by the projects long-term goals, etc.

d. Coordination with other Program Elements: Describe any coordination with other agency programs or ongoing research efforts. Describe any other proposals that are essential to the success of this proposal.

e. References and Literature Citations: Should be included but will not be counted in the 15-page project description limit.

4. Budget and Budget Justification: There should be a separate budget for each year and one cumulative budget for the entire project. Applicants are encouraged to use the Sea Grant Budget Form 90-4, but may also use their own form as long as it provides the same information as the Sea Grant form. Subcontracts should have a separate budget page. Matching funds must be indicated. The budget should include a separate budget justification page that itemizes all budget items in sufficient detail to enable reviewers to evaluate the appropriateness of the funding requested, and indicates the source for all matching funds. Please pay special attention to any travel, supply or equipment budgets and provide details. Note that only one award will normally be made for each project; if multiple institutions are involved, they should be handled through subcontractors with all necessary indirect costs included in the original budget submission.

Investigators are strongly advised to consult with and follow any budgeting guidelines available through their state's Sea Grant Program. Local institutional policies may affect how a project budget should be submitted, and what may be included (i.e., application of indirect costs, availability of fellowships, and other restrictions or cost-saving opportunities). Proposals generated from Sea Grant states must follow local guidelines, if any. In no case will proposals be funded at a level which exceeds the funding limitations as set in this announcement.

5. Current and Pending Support: Applicants must provide information on all current and pending Federal support for ongoing projects and proposals, including subsequent funding in the case of continuing grants. The relationship between the proposed project and these other projects should be described, and the number of person-months per year to be devoted to the projects must be stated.

6. Vitae (2 pages maximum per investigator).

7. Letters of commitment and letter of support from any industry or other partner, if appropriate.

VII. Other Requirements for Successful Applicants

The Department of Commerce Pre-Award Notification Requirements for Grants and Cooperative Agreements, contained in the Federal Register notice of October 1, 2001 (66 FR 49917), are applicable to this solicitation. The Federal Register notice also lists the forms required to complete the standard Department of Commerce grant application package, but those forms will be required only for those applicants who have been recommended for funding. For projects selected in Sea Grant states, the Sea Grant Program will prepare and submit these forms on behalf of all projects selected from that state. Unsuccessful applications will be held in the National Sea Grant Office for a period of five (5) years and then destroyed. Applications under this program are not subject to Executive Order 12372, “Intergovernmental Review of Federal Programs.”

Pursuant to Execute Orders 12876, 12900, and 13021, the Department of Commerce, National Oceanic and Atmospheric Administration (DOC/NOAA) is strongly committed to broadening the participation of Historically Black Colleges and Universities (HBCU), Hispanic Serving Institutions (HSI), and Tribal Colleges and Universities (TCU) in its educational and research programs. The DOC/NOAA vision, mission, and goals are to achieve full participation by Minority Serving Institutions (MSI) in order to advance the development of human potential, to strengthen the nation's capacity to provide high-quality education, and to increase opportunities for MSIs to participate in and benefit from Federal Financial Assistance programs. DOC/NOAA encourages all applicants to include meaningful participation of MSIs. Institutions eligible to be considered MSIs are listed at the following Internet website: http://www.ed.gov/offices/OCR/minorityinst.html.

This notice contains collection-of-information requirements subject to the Paperwork Reduction Act. THe use of NOAA Forms 90-2 and 90-4, or equivalents, has been approved by OMB under the control number 0648-0362. Public reporting burden for these collections of information is estimated to average 20 minutes for a NOAA Form 90-2 and 15 minutes for a NOAA Form 90-4. These response times include the time for reviewing instructions, searching existing data sources, gathering and maintaining the data needed, and completing and reviewing the collection of information. Send comments regarding this burden estimate, or any other aspect of this data collection, including suggestions for reducing the burden, to the National Sea Grant Office (see the FOR FURTHER INFORMATION CONTACT section).

Notwithstanding any other provision of law, no person is required to respond to, nor shall any person be subject to a penalty for failure to comply with, a collection of information subject to the Paperwork Reduction Act, unless that collection displays a currently valid OMB control number.

VIII. Classification

It has been determined that this notice is not significant for purposes of E.O. 12866.

It has been determined that this notice does not contain policies with Federalism implications as that term is defined in E.O. 13132.

Because notice and comment are not required under 5 U.S.C. 553, or any other law, for notices relating to public property, loans, grants, benefits or contracts (5 U.S.C. 553(a)), a Regulatory Flexibility Analysis is not required and has not been prepared for this notice, 5 U.S.C. 601 et seq.

David L. Evans,
Assistant Administrator, Office of Oceanic and Atmospheric Research, National Oceanic and Atmospheric Administration.

[FR Doc. 02-515 Filed 1-8-02; 8:45 am]

BILLING CODE 3510-KA-M